ENVIRONMENTAL PROTECTION AGENCY

[EPA-HQ-OPP-2014-0011; FRL-9919-13]

Pesticide Product Registration; Receipt of Applications for New Uses

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before January 9, 2015.

ADDRESSES: Submit your comments, identified by docket identification (ID) number EPA-HQ-OPP-2014-0011 and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Jennifer McLain, Antimicrobials Division (AD) (7510P), main telephone number: (703) 305-7090; email address: ADFRNotices@epa.gov., or Susan Lewis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received applications to register pesticide products containing active ingredients not included in any currently registered pesticide products. Pursuant to the provisions of FIFRA section 3(c)(4), EPA is hereby providing notice of receipt and opportunity to comment on these applications. Notice of receipt of these applications does not imply a decision by the Agency on these applications.

EPA Registration Number(s)/EPA File Symbol: 84542-RU. Docket ID number: EPA-HQ-OPP-2014-0478. Applicant: Cupron, Inc. 12208 Quinque Lane, Clifton, Virginia 20124. Active ingredient: Cuprous Oxide. Product type: Antimicrobial. Proposed Use(s): Materials Preservative for Drinking Water Systems. Contact: AD.

EPA Registration Number(s)/EPA File Symbol: 352-856, 352-857, 352-859, 352-860. Docket ID Number: EPA-HQ-OPP-2014-0357. Applicant: E.I. du Pont de Nemours & Company, 1007 Market St., Wilmington, DE 19898. Active ingredient: Cyantraniliprole. Product Type: Insecticide. Proposed Uses: Berry, low growing, except strawberry, subgroup 13-07H; peanut; soybean; strawberry; tobacco; vegetable, foliage of legume, group 7; vegetable, leaves of root and tuber, group 2; vegetable, legume, dried shelled pea and bean except soybean, subgroup 6C; vegetable, legume, edible podded, subgroup 6A; vegetable, legume, succulent shelled pea and bean, subgroup 6B; vegetable, root, except sugar beet, subgroup 1B. Contact: RD.

EPA Registration Number/EPA File Symbol: 100-811. Docket ID Number: EPA-HQ-OPP-2014-0506. Applicant: Syngenta Crop Protection, LLC, 410 Swing Road, Greensboro, NC 27419. Active ingredient: Cyprodinil. Product Type: Fungicide. Proposed Uses: Stone Fruit Crop Group 12-12; artichoke; pomegranate. Contact: RD.

EPA Registration Number/EPA File Symbol: 100-828. Docket ID Number: EPA-HQ-OPP-2014-0506. Applicant: Syngenta Crop Protection, LLC, 410 Swing Road, Greensboro, NC 27419. Active ingredient: Cyprodinil. Product Type: Fungicide. Proposed Uses: Stone Fruit Crop Group 12-12; Artichoke; acerola; feijoa; guava; jaboticaba; passionfruit; starfruit; wax jambu. Contact: RD.

EPA Registration Number/EPA File Symbol: 100-953. Docket ID Number: EPA-HQ-OPP-2014-0506. Applicant: Syngenta Crop Protection, LLC, 410 Swing Road, Greensboro, NC 27419. Active ingredient: Cyprodinil/Fludioxonil. Product Type: Fungicide. Proposed Uses: Acerola; feijoa; guava; jaboticaba; passionfruit; starfruit; wax jambu; pomegranates (post-harvest). Contact: RD.

EPA Registration Number/EPA File Symbol: 100-1317. Docket ID Number: EPA-HQ-OPP-2014-0506. Applicant: Syngenta Crop Protection, LLC, 410 Swing Road, Greensboro, NC 27419. Active ingredient: Cyprodinil/Difenoconazole. Product Type: Fungicide. Proposed Uses: Stone Fruit Crop Group 12-12; Artichoke. Contact: RD.

EPA Registration Number(s)/EPA File Symbol: 352-503, 352-515 and 352-672. Docket ID Number: EPA-HQ-OPP-2014-0552. Applicant: Du Pont Crop Protection, Stine-Haskell Research Center, P.O. Box 30, Newark, Delaware 19714-0030. Active ingredient: Esfenvalerate. Product Type: Insecticide. Proposed Uses: Oilseed Crop Group 20. Contact: RD.

EPA Registration Number(s)/EPA File Symbol: 100-758; 100-759. Docket ID Number: EPA-HQ-OPP-2014-0496. Applicant: Syngenta Crop Protection, LLC, 410 Swing Road, Greensboro, NC 27419. Active ingredient: Fludioxonil. Product Type: Fungicide. Proposed Uses: Rapeseed crop subgroup 20A, except Flax Seed. Contact: RD.

EPA Registration Number(s)/EPA File Symbol: 100-759; 100-1242. Docket ID Number: EPA-HQ-OPP-2014-0496. Applicant: Syngenta Crop Protection, LLC, 410 Swing Road, Greensboro, NC 27419. Active ingredient: Fludioxonil. Product Type: Fungicide. Proposed Uses: Carrot (post-harvest); Stone Fruit Group 12-12. Contact: RD.

EPA Registration Number(s)/EPA File Symbol: 4787-55; 4787-61; 67760-75; 67760-120; 67760-REA. Docket ID Number: EPA-HQ-OPP-2014-0482. Applicant: Cheminova A/S, c/o Cheminova, Inc., 1600 Wilson Blvd., Suite 700, Arlington, VA 22209-2510. Active Ingredient: Flutriafol. Product Type: Fungicide. Proposed Use: Brassica, head and stem, Subgroup 5A; Brassica, leafy greens, Subgroup 5B; leaf petioles, Subgroup 4B; leafy greens, Subgroup 4A, except head lettuce; head lettuce; radicchio; sorghum. Contact: RD.

EPA Registration Numbers/EPA File Symbols: 7969-226, 7969-270. Docket ID Number: EPA-HQ-OPP-2014-0607. Applicant: BASF Corporation; 26 Davis Drive, Research Triangle Park, NC 27709. Active ingredient: Metaflumizone. Product Type: Insecticide. Proposed Uses: Granular fire ant bait for use in pome fruit and stone fruit nurseries and orchards. Contact: RD.

EPA Registration Number/EPA File Symbols: 62719-437. Docket ID Number: EPA-HQ-OPP-2014-0591. Applicant: Dow AgroSciences LLC, 9330 Zionsville Road, Indianapolis, IN 46268. Product Name: Methoxyfenozide Technical. Active Ingredient: Insecticide, Methoxyfenozide at 98.2%. Proposed Use: Chives, Stone Fruit Group 12-12 (except plum) and Tree Nut Group 14-12. Contact: RD.

EPA Registration Number/EPA File Symbols: 62719-442. Docket ID Number: EPA-HQ-OPP-2014-0591. Applicant: Dow AgroSciences LLC, 9330 Zionsville Road, Indianapolis, IN 46268. Product Name: Intrepid 2F. Active Ingredient: Insecticide, Methoxyfenozide at 22.6%. Proposed Use: Chives, Stone Fruit Group 12-12 (except plum) and Tree Nut Group 14-12. Contact: RD.

EPA Registration Number(s)/EPA File Symbols: 62719-394, 62719-578. Docket ID number: EPA-HQ-OPP-2014-0680. Applicant: Dow AgroSciences LLC, 9330 Zionsville Road, Indianapolis, IN 46268. Active ingredient: Pronamide (Propyzamide). Product type: Herbicide. Proposed Use(s): Lettuce leaf. Contact: RD.

EPA Registration Number/EPA File Symbols: 43813-32. Docket ID Number: EPA-HQ-OPP-2014-0530. Applicant: Janssen PMP, Janssen Pharmaceutica NV, 1125 Trenton-Harbourton Road, Titusville, NJ 08560. Active Ingredient: Pyrimethanil. Product Type: Fungicide. Proposed Use: Pomegranate (post-harvest). Contact: RD.

EPA Registration Number/EPA File Symbol: 71185-4. Docket ID Number: EPA-HQ-OPP-2014-0134. Applicant: Geo Logic Corporation, P.O. Box 3091, Tequesta, FL 33469. Active ingredient: Streptomycin. Product Type: Fungicide. Proposed Uses: Tomato, Grapefruit, Pome Fruit Group 11-10. Contact: RD.

EPA Registration Number/EPA File Symbol: 80990-4. Docket ID Number: EPA-HQ-OPP-2014-0134. Applicant: AgroSource, Inc., P.O. Box 3091, Tequesta, FL 33469. Active ingredient: Streptomycin. Product Type: Fungicide. Proposed Uses: Tomato, Grapefruit, Pome Fruit Group 11-10. Contact: RD.

EPA Registration Number(s)/EPA File Symbols: 264-776, 264-826, and 264-1090. Docket ID number: EPA-HQ-OPP-2014-0709. Applicant: Bayer Crop Science, 2 T.W. Alexander Drive, P.O. Box 12014, RTP, NC 27709. Active ingredient: Trifloxystrobin. Product type: Fungicide. Proposed Use(s): Leafy greens (crop subgroup 4A), Leafy petioles (crop subgroup 4B), Head and stem brassica vegetables (crop subgroup 5A), Leafy brassica greens (crop subgroup 5B), Tuberous and corm vegetables (crop subgroup 1C), Small fruit vine climbing subgroup except fuzzy kiwifruit (crop subgroup 13-07F), Low growing berries (crop subgroup 13-07G), Herbs (crop subgroup 19A), and Spices (subgroup 19B) except black pepper. Contact: RD.

Authority: 7 U.S.C. 136 et seq.

Dated: December 3, 2014.
Susan Lewis,
Director, Registration Division, Office of Pesticide Programs.

[FR Doc. 2014-28943 Filed 12-9-14; 8:45 am]

BILLING CODE 6560-50-P